DEPARTMENT OF HEALTH AND HUMAN SERVICES

National Institutes of Health

Proposed Collection; Comment Request; HIV Vaccine Awareness Study—Americans' Attitudes

Summary: In compliance with the requirement of section 3506(c)(2)(A) of the Paperwork Reduction Act of 1995, for opportunity for public comment on proposed data collection projects, the National Institutes of Allergy and Infectious Diseases (NIAID), the National Institutes of Health (NIH) will publish periodic summaries of proposed projects to be submitted to the Office of Management and Budget (OMB) for review and approval.

Proposed Collection: Title: HIV Vaccine Awareness Study—Americans' Attitudes. Types of Information Collection Request: New. Need and Use of Information Collection: NIH/NIAID/DAIDS is in the process of planning a campaign to inform Americans about HIV preventive vaccine research. As part of planning, it is necessary to establish a baseline of Americans' levels of knowledge and attitudes with respect to HIV preventive vaccine research; to determine what information is required by communities to address the mistrust, myths, and misinformation about HIV vaccine research; and to identify how and what information should be provided to communities to promote more positive attitudes toward HIV vaccine research. Findings will help inform initial campaign decisions and serve to evaluate the effectiveness of the campaign's efforts. Frequency of Response: One time. Affected Public: Individuals or households. Type of Respondents: Random samples of adults, including those considered at-risk for HIV and members of their social networks. The annual reporting burden is as follows:

Type of respondents | Estimated number of respondents | Estimated number of responses per respondent | Average burden hours per response | Estimated total annual burden hours requested
Adults | 1,500 | 1 | .0833 | 125
At-risk groups | 2,400 | 1 | .25 | 600
Members of social networks | 300 | 1 | .0833 | 25
Total | 4,200 |  | .1786 | 750

The annualized cost to respondents is estimated at $7,500. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION: To request more information on the proposed project or to obtain a copy of the data collection plans and instruments, contact Thomas LaSalvia, Associate Director for Scientific Information and Program Planning, DAIDS, NIAID, NIH, 6700-B Rockledge Drive, MSC 7620, Room 4143, Bethesda, MD 20892-7620, or call non-toll free (301) 496-0545, or E-mail your request, including your address to tl38r@nih.gov.

Comments Due Date: Comments regarding this information collection are best assured of having their full effect if received within 60-days of the date of this publication.

Dated: November 15, 2001.
Cyndie Cotter,
National Institute of Allergy and Infectious Diseases Project Clearance Liaison, National Institutes of Health.

[FR Doc. 01-29543 Filed 11-27-01; 8:45 am]

BILLING CODE 4140-01-M